DEPARTMENT OF HOMELAND SECURITY

U.S. Citizenship and Immigration Services

[OMB Control Number 1615-0157]

Agency Information Collection Activities; Emergency Revision of a Currently Approved Collection: Online Request To Be a Supporter and Declaration of Financial Support

AGENCY: U.S. Citizenship and Immigration Services, Department of Homeland Security.

ACTION: Notice.

SUMMARY: The Department of Homeland Security (DHS), U.S. Citizenship and Immigration (USCIS) will be submitting this collection of information to the Office of Management and Budget (OMB) with a request for review and approval in accordance with the Paperwork Reduction Act of 1995. USCIS is requesting that OMB approve this emergency revision by September 20, 2024.

SUPPLEMENTARY INFORMATION:

Overview of This Information Collection

(1) Type of Information Collection: Emergency Revision of a Currently Approved Collection.

(2) Title of the Form/Collection: Online Request to be a Supporter and Declaration of Financial Support.

(3) Agency form number, if any, and the applicable component of the DHS sponsoring the collection: I-134A; USCIS.

(4) Abstract: USCIS uses Form I-134A to determine whether a U.S.-based individual meets the necessary qualifications to serve as a supporter of the beneficiary named on the Form I-134A for the duration of their temporary stay in the United States. This includes collecting information to conduct security checks and assess whether the supporter has sufficient financial resources and access to those funds to support the beneficiary as well as to obtain information concerning whether the beneficiary merits a favorable exercise of discretion under the statutory parole standard. Form I-134A is filed by a U.S.-based individual (the potential supporter) to request to be a supporter, agree to provide financial support to the beneficiary named on the form for the duration of the beneficiary's period of stay in the United States, and to provide information concerning why the beneficiary warrants a discretionary grant of parole.

In this request, USCIS will require submission of biometrics by supporters as a condition of submission and require payment of a biometric services fee of $30. These changes are needed to enable USCIS to better validate the identity and qualifications of the supporter(s) and perform additional background checks and security vetting. Within the 6-month period following emergency approval, USCIS will seek public comment of the information collection package as provided under 5 CFR part 1320 and the Paperwork Reduction Act.

Dated: August 29, 2024.
Samantha L. Deshommes,
Chief, Regulatory Coordination Division, Office of Policy and Strategy, U.S. Citizenship and Immigration Services, Department of Homeland Security.

[FR Doc. 2024-19842 Filed 8-30-24; 8:45 am]

BILLING CODE 9111-97-P